DEPARTMENT OF AGRICULTURE

Forest Service

Forest Counties Payments Committee

AGENCY: Forest Service, USDA.

ACTION: Notice of meeting and extension of comment period.

SUMMARY: The Forest Counties Payments Committee will meet in Washington, DC, on July 10, 2002. The purpose of the meeting is to receive comments from both elected officials and the general public on the recommendations the Committee must make to Congress as specified in Section 320 of the Fiscal Year 2001 Interior and Related Agencies Appropriations Act. The meeting will consist of a business session, which is open to public attendance, from 9 a.m. to 12 noon and a public input session from 1 p.m. until 5 p.m. This notice also provides an extension of the comment period associated with the Forest Counties Payments Committee notices published in the Federal Register on February 4, 2002 (67 FR 5087), March 26, 2002 (67 FR 13748), and on May 6, 2002 (67 FR 30353).

DATES: The Washington, DC, meeting will be held on July 10, 2002. Persons who are interested in providing comments to the Committee, including those who attended or have an interest in the meetings in Reno, Nevada, and Rapid City, South Dakota, identified in the preceding SUMMARY, have until July 31, 2002, to submit their written comments. Comments received after this date will be considered to the extent possible.

ADDRESSES: The July 10 meeting will be held at the Holiday Inn on the Hill, 415 New Jersey Avenue, NW, Washington, DC. Those who cannot be present may submit written responses to the questions listed in SUPPLEMENTARY INFORMATION in this notice to Randle G. Phillips, Executive Director, Forest Counties Payments Committee, P.O. Box 34718, Washington, DC 20043-4713, or electronically at the Committee's website at http://countypayments.gov/comments.html.

FOR FURTHER INFORMATION CONTACT: Randle G. Phillips, Executive Director, Forest Counties Payments Committee, (202) 208-6574 or via e-mail at rphillips01@fs.fed.us.

SUPPLEMENTARY INFORMATION: Section 320 of the 2001 Interior and Related Agencies Appropriations Act (Public Law 106-291) created the Forest Counties Payments Committee to make recommendations to Congress on a long-term solution for making Federal payments to eligible States and counties in which Federal lands are situated. To formulate its recommendations to Congress, the Committee will consider the impact on eligible States and counties of revenues from the historic multiple use of Federal lands; evaluate the economic, environmental, and social benefits which accrue to counties containing Federal lands; evaluate the expenditures by counties on activities occurring on Federal lands which are Federal responsibilities; and monitor payments and implementation of the Secure Rural Schools and Community Self-Determination Act of 2000 (Public Law 106-393).

At the July 10 meeting in Washington, DC, the Committee asks that elected officials and others who wish to comment provide information in response to the following questions:

1. Do counties receive their fair share of Federal revenue-sharing payments made to eligible States?

2. What difficulties exist in complying with and managing all of the Federal revenue-sharing payments programs? Are some more difficult than others?

3. What economic, social, and environmental costs do counties incur as a result of the presence of public lands within their boundaries?

4. What economic, social, and environmental benefits do counties realize as a result of public lands within their boundaries?

5. What are the economic and social effects from changes in revenues generated from public lands over the past 15 years as a result of changes in management on public lands in your State or county?

6. What actions has your State or county taken to mitigate any impacts associated with declining economic conditions or revenue-sharing payments?

7. What effects, both positive and negative, have taken place with education and highway programs that are attributable to the management of public lands within your State or county?

8. What relationship, if any, should exist between Federal revenue-sharing programs, and management activities on public lands?

9. What alternatives exist to provide equitable revenue-sharing to States and counties and to promote “sustainable forestry?”

10. What has been your experience regarding implementation of Public Law 106-393, the Secure Rural Schools and Community Self-Determination Act?

11. What changes in law, policies and procedures, and the management of public land have contributed to changes in revenue derived from the multiple-use management of these lands?

12. What changes in law, policies and procedures, and the management of public land are needed in order to restore the revenues derived from the multiple-use management of these lands?

Dated: June 6, 2002.
George D. Lennon,
Acting Deputy Chief.

[FR Doc. 02-14860 Filed 6-12-02; 8:45 am]

BILLING CODE 3410-11-P